GENERAL SERVICES ADMINISTRATION

[FMR Bulletin PBS-2008-B6]

Federal Management Regulation; Redesignations of Federal Buildings

AGENCY: Public Buildings Service (P), GSA

ACTION: Notice of a bulletin.

SUMMARY: The attached bulletin announces the redesignations of six Federal buildings.

EXPIRATION DATE: This bulletin expires March 1, 2009. However, the building redesignations announced by this bulletin will remain in effect until canceled or superseded.

FOR FURTHER INFORMATION CONTACT: U.S. General Services Administration, Public Buildings Service (P), Attn: Anthony E. Costa, 1800 F Street, NW, Washington, DC 20405; e-mail: anthony.costa@gsa.gov; telephone: (202) 501-1100.

Dated: September 30, 2008
James A. Williams,
Acting Administrator of General Services

U.S. GENERAL SERVICES ADMINISTRATION

FMR BULLETIN PBS-2008-B6

REDESIGNATIONS OF FEDERAL BUILDINGS

TO: Heads of Federal Agencies

SUBJECT: Redesignations of Federal Buildings

1. What is the purpose of this bulletin? This bulletin announces the redesignations of six Federal buildings.

2. When does this bulletin expire? This bulletin expires March 1, 2009. However, the building redesignations announced in this bulletin will remain in effect until canceled or superseded.

3. Redesignations. The former and new names of the redesignated buildings are as follows:

Former Name | New Name
United States Bankruptcy Courthouse, Bankruptcy Courthouse, 271 Cadman Plaza East, Brooklyn, NY 11201 | Conrad Duberstein United States, Bankruptcy Courthouse, 271 Cadman Plaza East, Brooklyn, NY 11201
Federal Building, 138 West First Street, Port Angeles, WA 98362 | Richard B. Anderson Federal Building, 138 West First Street, Port Angeles, WA 98362
United States Courthouse, 1716 Spielbusch Avenue, Toledo, OH 43604 | James M. Ashley and Thomas W.L. Ashley United States Courthouse, 1716 Spielbusch Avenue, Toledo, OH 43604
Federal Building and United States Courthouse, 300 Quarropas Street, White Plains, NY 10601 | Charles L. Brieant, Jr., Federal Building and United States Courthouse, 300 Quarropas Street, White Plains, NY 10601
United States Courthouse, 225 Cadman Plaza East, Brooklyn, NY 11201 | Theodore Roosevelt United States Courthouse, 225 Cadman Plaza East, Brooklyn, NY 11201
United States Courthouse, 701 East Broad Street, Richmond, VA 23219 | Spottswood W. Robinson III and Robert R. Merhige, Jr., United States Courthouse, 701 East Broad Street, Richmond, VA 23219

4. Whom should we contact for further information regarding redesignation of these Federal buildings? U.S. General Services Administration, Public Buildings Service (P),Attn: Anthony E. Costa, 1800 F Street, NW, Washington, DC 20405;telephone number: (202) 501-1100; e-mail:anthony.costa@gsa.gov.

Dated: September 30, 2008
James A. Williams,
Acting Administrator of General Services

[FR Doc. E8-24425 Filed 10-14-08; 8:45 am]

BILLING CODE 6820-23-S